DEPARTMENT OF DEFENSE

Department of the Army, Corps of Engineers

One-Time Deauthorization of Water Resources Projects

AGENCY: Army Corps of Engineers, DoD.

ACTION: Notice of Final Deauthorization Report.

SUMMARY: The U.S. Army Corps of Engineers is publishing a Final Deauthorization Report of water resources development projects and separable elements that have been identified for deauthorization in accordance with section 6001(d) of the Water Resources Reform and Development Act of 2014, Public Law 113-121, 128 STAT. 1346-1347 (WRRDA 2014). The Assistant Secretary of the Army for Civil Works transmitted the Final Deauthorization Report to Congress on February 26, 2016. An electronic copy of the complete report is available at: http://www.usace.army.mil/Portals/2/docs/civilworks/budget/final_deauth_report_23feb2016.pdf.

For Further Information Contact or To Provide Comments: Mr. Joseph W. Aldridge, Headquarters, U.S. Army Corps of Engineers, Attention: CECW-IP, Washington, DC 20314-1000. Tel. (202) 761-4130 or joseph.w.aldridge@usace.army.mil.

SUPPLEMENTARY INFORMATION: Final Deauthorization Report required by § 6001(d).

Section 6001(d) provides that the Secretary shall develop a Final Deauthorization Report. This report includes a list of each water resources development project, or separable element of a project, described in Section 6001(c) and the other provisions of Section 6001(d), as well as an appendix (Appendix A) that lists any project, or separable element of a project, included as part of the Interim Deauthorization List but not included in the Final Deauthorization Report and the reasons why they are not included in the report. Appendix B of the Final Deauthorization Report (available on the U.S. Army Corps of Engineers Web site referenced below) contains copies of the comments received during the public comment period. The Final Deauthorization Report with Appendix A follows below in Table 1. An electronic copy of the Final Deauthorization Report with appendices can be found at: http://www.usace.army.mil/Portals/2/docs/civilworks/budget/final_deauth_report_23feb2016.pdf.

The Interim Deauthorization List was developed in accordance with Section 6001(c) of WRRDA 2014 and was published for public comment in the Federal Register on October 7, 2015. Per Section 6001(d), not later than 120 days following the 90-day public comment period of the Interim Deauthorization List, that ended on January 4, 2016, the Assistant Secretary of the Army for Civil Works (ASA(CW)) will transmit the Final Deauthorization Report to the Environment & Public Works Committee of the Senate and the Transportation and Infrastructure Committee of the House of Representatives. Additionally, the ASA(CW) will publish the Final Deauthorization Report in the Federal Register. The ASA(CW) transmitted the Final Deauthorization Report to the Committees on February 26, 2016.

Section 6001(d)(2)(A) of WRRDA 2014 requires that the Secretary shall include on the Final Deauthorization Report, projects and separable elements of projects that have, in the aggregate, an estimated Federal cost to complete that is at least $18 billion. The ASA(CW) has strived to meet the requirements of Section 6001, but was not able to identify projects that totaled $18 billion based upon the criteria provided in Section 6001. The projects and elements on the Final Deauthorization Report will be deauthorized automatically after 180 days following the date that the ASA(CW) submits the Final Deauthorization List to the Committees, unless the Congress passes a joint resolution disapproving the Final Deauthorization Report or the non-Federal interest for the project or separable element of a project provides sufficient funds to complete the construction of the project or separable element. The amount shown as the Federal Balance to complete is a working estimate generally based on the authorization and as such any non-Federal interests considering providing sufficient funds to complete a project or separable element should contact the appropriate District Commander to discuss the process necessary to develop a final cost to complete a project or separable element.

The Final Deauthorization Report identifies water resources development projects, or separable elements of a project, that meet the following criteria. Projects and separable elements eligible for deauthorization are those uncompleted construction projects and separable elements meeting all of the following criteria: (1) They were authorized for construction before November 8, 2007, or their most recent modification of the construction authorization predates November 8, 2007; (2) their construction has not been initiated, or, if construction has been initiated, there have been no obligations of Federal or non-Federal funds for construction in the current fiscal year or any of the past 6 fiscal years; and, (3) there has been no funding for a post-authorization study in the current fiscal year or any of the past 6 fiscal years. As specifically provided in section 6001(f)(1)(B) of WRRDA 2014, water resources development projects include environmental infrastructure assistance projects and programs of the U.S. Army Corps of Engineers. In accordance with section 103(f) of the Water Resources Development Act of 1986, separable elements is defined as “a portion of a project—

(1) which is physically separable from other portions of the project; and

(2) which—

(A) achieves hydrologic effects, or

(B) produces physical or economic benefits, which are separately identifiable from those produced by other portions of the project.”

The following elements of an authorized water resources development project also qualify as separable elements: an element for which there is an executed design agreement or project partnership agreement specific to that element; an element that has received funding specified for that element; an element that was authorized separately from or as an amendment to the authorization for the remainder of the water resources development project, that was separately identified in the authorization for the water resources development project, or for which a statute specifies an authorized cost, estimated cost, or amount authorized to be appropriated; an element that has been placed in service or for which the Government or the non-Federal partner has assumed operation and maintenance; an element that has been deauthorized; or the remaining portion of the water resources development project apart from other separable elements.

Authority: This notice is required by § 6001(d) of the Water Resources Reform and Development Act of 2014, Public Law 113-121, 128 STAT 1346-1347.

Jo-Ellen Darcy,
Assistant Secretary of the Army (Civil Works).

Table 1 (Final Deauthorization Report)
State | Project/Element name | Public law of authorization or latest amendment | Section of public law | Latest fiscal year of Federal or non-Federal obligations for construction | Federal balance to complete (subject to section 902 where applicable) ($)
AL | ALABAMA-COOSA RIVER AND TRIBUTARIES, AL (COOSA RIVER BETWEEN MONTGOMERY AND GADSDEN) | 99-662 | 813 | 1986 | 3,781,921,691
AL | DUCK RIVER, AL | 106-554 | 108a | NO OBLIGATION FOR CONSTRUCTION | 5,000,000
AR | UNION COUNTY, AR | 106-554 | 108d | 2008 | 51,247,100
| L'ANGUILLE RIVER BASIN, AR | 99-662 | 103 | 2004 | 19,466,768
| ARKANSAS RIVER LEVEES, AR | 101-640 | 110(a1) | NO OBLIGATION FOR CONSTRUCTION | 591,605
| BEAVER DAM, AR (TROUT PRODUCTION CENTER) | 94-587 | 105 | NO OBLIGATION FOR CONSTRUCTION | 5,990,000
| BEAVER LAKE, BENTON/WASH, AR | 104-303 | 523 | 2002 | 5,000,000
CA | CALAVERAS COUNTY, CA | 104-303 | 526 | NO OBLIGATION FOR CONSTRUCTION | 1,500,000
| CLEAR LAKE BASIN, CA | 106-554 | 108a | NO OBLIGATION FOR CONSTRUCTION | 1,543,324
| COLUSA TROUGH DRAINAGE CANAL, SACRAMENTO RIVER AND TRIBUTARIES, CA | 99-662 | 830 | NO OBLIGATION FOR CONSTRUCTION | 18,900,846
| PINE FLAT DAM, CA | 106-541 | 101b(7) | NO OBLIGATION FOR CONSTRUCTION | 41,502,918
| CHINO HILLS, CA | 106-554 | 108a | NO OBLIGATION FOR CONSTRUCTION | 1,543,324
| EASTERN MUNICIPAL WATER DISTRICT, CA | 106-554 | 108a | NO OBLIGATION FOR CONSTRUCTION | 1,543,324
| GOLETA & VICINITY, CA | 102-580 | 102b | 1984 | 1,233,626
| LOS ANGELES HARBOR/TERMINAL ISLAND, CA | 106-554 | 108d | NO OBLIGATION FOR CONSTRUCTION | 6,500,000
| LOWER MISSION CREEK, CA | 100-676 | 3a | NO OBLIGATION FOR CONSTRUCTION | 14,625,971
| SAN DIEGO AREA WATER REUSE DEMOSTRATION FACILITIES, CA | 102-580 | 217c(2) | NO OBLIGATION FOR CONSTRUCTION | 5,000,000
| SAN DIEGO COUNTY, CA (CORONADO TRANSBAY WASTEWATER PIPELINE) | 106-554 | 108d | NO OBLIGATION FOR CONSTRUCTION | 10,000,000
| SOUTHERN CALIFORNIA COMPREHENSIVE WATER REUSE SYSTEM, CA | 102-580 | 217c(1) | NO OBLIGATION FOR CONSTRUCTION | 5,000,000
CT | BRIDGEPORT COMBINED SEWER OVERFLOW PTOJECT, CT | 106-53 | 502b | NO OBLIGATION FOR CONSTRUCTION | 10,000,000
CT, ME, MA, NH, RI & VT | NEW ENGLAND WATER RESOURCES AND ECOSYSTEM RESTORATION, CT, ME, MA, NH, RI & VT | 106-541 | 507 | NO OBLIGATION FOR CONSTRUCTION | 0
DC & MD | WASHINGTON, DC AND MARYLAND, DC & MD | 106-554 | 108d | 1998 | 14,807,000
FL | COMPREHENSIVE EVERGLADES RESTORATION PLAN, FL (LAKE BELT IN-GROUND RESERVOIR TECHNOLOGY) | 106-541 | 601b2bii | 2005 | 17,000,000
| COMPREHENSIVE EVERGLADES RESTORATION PLAN, FL (NORTH NEW RIVER IMPROVEMENTS) | 106-541 | 601b2cix | NO OBLIGATION FOR CONSTRUCTION | 67,150,000
| COMPREHENSIVE EVERGLADES RESTORATION PLAN, FL (RAISE AND BRIDGE EAST PORTION OF TAMIAMI TRAIL AND FILL MIAMI CANAL WITHIN WATER) (CONSEVATION AREA 3) | 106-541 | 601b2cviii | NO OBLIGATION FOR CONSTRUCTION | 21,500,000
| COMPREHENSIVE EVERGLADES RESTORATION PLAN, FL (TAYLOR CREEK/NUBBIN SLOUGH STORAGE AND TREATMENT AREA) | 106-541 | 601b2cvii | NO OBLIGATION FOR CONSTRUCTION | 67,800,000
| COMPREHENSIVE EVERGLADES RESTORATION PLAN, FL (WASTEWATER REUSE TECHNOLOGY) | 106-541 | 601b2biv | 2005 | 20,500,000
| HUDSON RIVER, FL | 81-516 | 101 | NO OBLIGATION FOR CONSTRUCTION | 3,650,000
| KEY BISCAYNE, FL | 106-554 | 108a | NO OBLIGATION FOR CONSTRUCTION | 1,543,324
| LITTLE TALBOT ISLAND, FL | 106-53 | 101(b)(7) | 2000 | 6,786,030
| SOUTH TAMPA, FL | 106-554 | 108a | NO OBLIGATION FOR CONSTRUCTION | 1,543,324
| TAMPA HARBOR, ALAFIA RIVER, FL | 106-554 | 107 | 2006 | 64,771,847
| TAMPA HARBOR, FL ((PORT SUTTON TURNING BASIN) WIDENING TO AN ADDITIONAL 105 FEET TO THE FENDER LINE ALONG PENDOLA POINT) | 99-662 | 858 | NO OBLIGATION FOR CONSTRUCTION | 8,434,881
HI | WAIKIKI EROSION CONTROL, HI | 89-298 | 301 | NO OBLIGATION FOR CONSTRUCTION | 16,584,000
ID | SNAKE RIVER INTERPRETIVE CENTER, CLARKSTON, WA | 108-137 | 124 | 2004 | 3,750,044
IL | AURORA, IL | 106-554 | 108d | NO OBLIGATION FOR CONSTRUCTION | 8,000,000
| DES PLAINES RIVER, IL (NORTH FORK MILL CREEK DAM MODIFICATION) | 106-53 | 101b(10) | NO OBLIGATION FOR CONSTRUCTION | 5,795,400
IN | FORT WAYNE, IN | 106-554 | 108a | NO OBLIGATION FOR CONSTRUCTION | 1,529,324
| INDIANAPOLIS, IN | 106-554 | 108a | NO OBLIGATION FOR CONSTRUCTION | 1,543,324
KY | BEAVER CREEK BASIN, KY | 89-298 | 204 | NO OBLIGATION FOR CONSTRUCTION | 20,873,500
KY & TN | REELFOOT LAKE, TN & KY | 106-53 | 101b(11) | NO OBLIGATION FOR CONSTRUCTION | 33,072,769
LA | PEARL RIVER, SLIDELL, SAINT TAMMANY PARISH, LA | 99-662 | 401b | 2002 | 29,311,000
| BAYOU COCODRIE AND TRIBUTARIES, LA | 93-251 | 87 | 1987 | 345,472,000
| GULF INTRACOASTAL WATERWAY, LA & TX (LA-TX SECTION—UNCONSTRUCTED FEATURES) | 87-874 | 101 | NO OBLIGATION FOR CONSTRUCTION | 201,422,000
| KENNER, LA | 106-554 | 108 | NO OBLIGATION FOR CONSTRUCTION | 5,000,000
| ST. CHARLES, ST. BERNARD, AND PLAQUEMINES PARISHES, LA | 106-554 | 108a | NO OBLIGATION FOR CONSTRUCTION | 1,543,324
| ST. JOHN THE BAPTIST AND ST. JAMES PARISHES, LA | 106-554 | 108a | NO OBLIGATION FOR CONSTRUCTION | 1,543,324
| TANGIPAHOA, TCHEFUNCTE, AND TICKFAW RIVERS, LA | 99-662 | 401 | NO OBLIGATION FOR CONSTRUCTION | 21,723,000
MA | MUDDY RIVER, BROOKLINE AND BOSTON, MA (AQUATIC ECOSYSTEM RESTORATION FEATURES) | 106-541 | 522 | NO OBLIGATION FOR CONSTRUCTION | 24,050,000
MI | ALPENA HARBOR, MI (25-FOOT CHANNEL) | 104-303 | 363d | NO OBLIGATION FOR CONSTRUCTION | 4,063,120
| BAY CITY, MI | 101-640 | 105 | NO OBLIGATION FOR CONSTRUCTION | 8,466,275
| BENTON HARBOR, ST JOSEPH WASTEWATER TREATMENT PLANT, ST JOSEPH, MI | 106-554 | 108d | NO OBLIGATION FOR CONSTRUCTION | 1,500,000
| CHARLEVOIX, MI (REVETMENT CONNECTION) | 106-53 | 373 | NO OBLIGATION FOR CONSTRUCTION | 52,500
| ONTONAGON HARBOR, ONTONAGON COUNTY MI | 104-303 | 363e | NO OBLIGATION FOR CONSTRUCTION | 37,134,623
| SAGINAW RIVER AND TRIBUTARIES, MI (CASS RIVER AT VASSAR) | 106-53 | 364(3) | NO OBLIGATION FOR CONSTRUCTION | 13,909,394
| SAGINAW RIVER AND TRIBUTARIES, MI (CURTIS ROAD BRIDGE) | 99-662 | 845 | NO OBLIGATION FOR CONSTRUCTION | 720,653
| SAGINAW RIVER AND TRIBUTARIES, MI (FLINT RIVER AT FLINT) | 104-303 | 329 | NO OBLIGATION FOR CONSTRUCTION | 571,781
| SAGINAW RIVER AND TRIBUTARIES, MI (SHIAWASSEE FLATS) | 106-53 | 364(4) | NO OBLIGATION FOR CONSTRUCTION | 106,825,583
MI, MN & WI | GREAT LAKES CONNECTING CHANNELS & HARBORS, MN, MI & WI | 101-640 | 101a15 | NO OBLIGATION FOR CONSTRUCTION | 17,938,174
MN | DULUTH, MN (ALTERNATIVE TECHNOLOGY PROJECT) | 104-303 | 541a/b | NO OBLIGATION FOR CONSTRUCTION | 1,000,000
| LAKE SUPERIOR CENTER, MN | 104-303 | 542 | NO OBLIGATION FOR CONSTRUCTION | 10,000,000
| MISSISSIPPI PLACE, MN | 106-53 | 577 | 2006 | 2,968,178
MN & WI | DULUTH-SUPERIOR CHANNEL EXTENSION, MN & WI | 99-662 | 201a | 1995 | 14,064,481
MO | KANSAS CITY, MO | 106-53 | 502b | NO OBLIGATION FOR CONSTRUCTION | 15,000,000
MO & IL | ST LOUIS HARBOR, MO & IL | 99-662 | 601a | NO OBLIGATION FOR CONSTRUCTION | 43,253,100
MS | YAZOO BASIN, TRIBUTARIES, MS (UNCONSTRUCTED FEATURES) | 89-298 | 204 | 2007 | 233,490,728
| YAZOO RIVER, MS (SHEPARDSTOWN BRIDGE) | 99-662 | 822 | NO OBLIGATION FOR CONSTRUCTION | 2,011,094
MS & LA | MISSISSIPPI AND LOUISIANA ESTUARINE AREAS, MS & LA | 100-676 | 3(a)8 | 2003 | 70,668,540
NC | LUMBERTON, NC | 106-53 | 502b | NO OBLIGATION FOR CONSTRUCTION | 1,700,000
| UNION COUNTY, NC | 106-554 | 108a | NO OBLIGATION FOR CONSTRUCTION | 1,543,324
NC & SC | SUGAR CREEK BASIN, NC & SC | 99-662 | 401a | NO OBLIGATION FOR CONSTRUCTION | 54,523,100
NH | NASHUA, NH (COMBINED SEWER OVERFLOW) | 106-53 | 502(b) | NO OBLIGATION FOR CONSTRUCTION | 19,853,000
| ROCHESTER, NH | 104-303 | 504(e)(4) | NO OBLIGATION FOR CONSTRUCTION | 10,897,120
NJ | ELIZABETH, NJ | 106-53 | 502(f) | NO OBLIGATION FOR CONSTRUCTION | 20,000,000
| NORTH HUDSON, NJ | 106-53 | 502(f) | NO OBLIGATION FOR CONSTRUCTION | 20,000,000
| PATTERSON AND PASSAIC COUNTY, NJ | 106-554 | 108c | NO OBLIGATION FOR CONSTRUCTION | 30,000,000
| STATE OF NEW JERSEY AND NEW JERSEY WASTEWATER TREATMENT TRUST, NJ | 102-580 | 219c(10) | NO OBLIGATION FOR CONSTRUCTION | 1,543,324
| TOWN OF NEWTON, NJ | 106-554 | 108d | NO OBLIGATION FOR CONSTRUCTION | 7,000,000
NV | LAS VEGAS WASH AND TRIBUTARIES, NV | 102-580 | 101(13) | NO OBLIGATION FOR CONSTRUCTION | 3,360,938
| LAS VEGAS, NV | 109-103 | 115 | NO OBLIGATION FOR CONSTRUCTION | 20,000,000
| ERIE COUNTY, BUFFALO AMHERST, NY | 102-580 | 221 | NO OBLIGATION FOR CONSTRUCTION | 7,000,000
NY | ERIE COUNTY, NY (SLUDGE DISPOSAL) | 102-580 | 219c(12) | NO OBLIGATION FOR CONSTRUCTION | 1,543,324
| ERIE COUNTY, NY (WATER QUALITY TUNNEL) | 102-580 | 219c(11) | NO OBLIGATION FOR CONSTRUCTION | 1,543,324
| LEWISTON STORMWATER, NY | 102-580 | 222 | NO OBLIGATION FOR CONSTRUCTION | 200,000
| LIVERPOOL, NY | 106-554 | 108d | NO OBLIGATION FOR CONSTRUCTION | 2,000,000
| INNER HARBOR PROJECT, NEW YORK, NY | 106-53 | 502(f) | NO OBLIGATION FOR CONSTRUCTION | 15,000,000
| LOWER HUDSON RIVER & TRIBUTARIES, NY | 106-53 | 212e | NO OBLIGATION FOR CONSTRUCTION | 30,000,000
| OUTER HARBOR PROJECT, NEW YORK, NY | 106-53 | 502(f) | NO OBLIGATION FOR CONSTRUCTION | 15,000,000
NY/NJ | NEW YORK HARBOR COLLECTION AND REMOVAL OF DRIFT, NY & NJ | 101-640 | 102 | 2005 | 201,549,768
OH | OTTAWA RIVER HARBOR, OH | 101-640 | 107a(7) | 2006 | 13,218,200
| HOCKING RIVER, LOGAN, OH | 99-662 | 401a | NO OBLIGATION FOR CONSTRUCTION | 16,282,709
| MIAMI RIVER BASIN, PLEASANT RUN, VICINITY FAIRFIELD, OH | 99-662 | 401(a) | NO OBLIGATION FOR CONSTRUCTION | 18,041,480
OK | FORT GIBSON LAKE, OK (POWER UNITS 5 & 6) | 99-662 | 601a | NO OBLIGATION FOR CONSTRUCTION | 45,485,000
OR | ASTORIA, OR | 106-53 | 502b | NO OBLIGATION FOR CONSTRUCTION | 5,000,000
| HOOD RIVER, OR | 106-554 | 108a(36) | NO OBLIGATION FOR CONSTRUCTION | 1,543,324
| MEDFORD, OR | 106-554 | 108a(37) | NO OBLIGATION FOR CONSTRUCTION | 1,543,324
| PORTLAND, OR | 106-554 | 108a(38) | NO OBLIGATION FOR CONSTRUCTION | 1,543,324
PA | COUDERSPORT, PA | 106-554 | 108 | NO OBLIGATION FOR CONSTRUCTION | 1,543,324
| FINDLAY TOWNSHIP, PA | 106-53 | 502 | NO OBLIGATION FOR CONSTRUCTION | 11,000,000
| GREENSBORO AND GLASSWORKS, PA | 102-580 | 219c(15) | NO OBLIGATION FOR CONSTRUCTION | 1,543,324
| JEFFERSON TOWNSHIP, GREENE COUNTY, PA | 106-53 | 502 | NO OBLIGATION FOR CONSTRUCTION | 1,000,000
| NORTH FAYETTE TOWNSHIP, ALLEGHENY COUNTY, PA | 106-53 | 502 | NO OBLIGATION FOR CONSTRUCTION | 500,000
| ROBINSON TOWNSHIP, PA | 106-53 | 502 | NO OBLIGATION FOR CONSTRUCTION | 1,200,000
| SPRINGDALE BOROUGH, PA | 106-53 | 502 | NO OBLIGATION FOR CONSTRUCTION | 500,000
| TITUSVILLE, PA | 106-554 | 108 | NO OBLIGATION FOR CONSTRUCTION | 7,300,000
| WASHINGTON, GREENE, WESTMORELAND, AND FAYETTE COUNTIES, PA | 106-554 | 108 | NO OBLIGATION FOR CONSTRUCTION | 8,000,000
| BRADFORD AND SULLIVAN COUNTIES, PA | 106-53 | 548 | NO OBLIGATION FOR CONSTRUCTION | 13,000,000
| DAUPHIN COUNTY, PA | 106-53 | 502b | NO OBLIGATION FOR CONSTRUCTION | 2,000,000
| DILLSBURG BOROUGH AUTHORITY, PA | 106-53 | 502b | NO OBLIGATION FOR CONSTRUCTION | 2,000,000
| HAMPDEN TOWNSHIP, PA | 106-53 | 502b | NO OBLIGATION FOR CONSTRUCTION | 3,000,000
| MOUNT JOY TOWNSHIP AND CONEWAGO TOWNSHIP, PA | 106-554 | 108d | NO OBLIGATION FOR CONSTRUCTION | 8,300,000
| PATTON TOWNSHIP, PA | 106-53 | 502b | NO OBLIGATION FOR CONSTRUCTION | 1,400,000
| UPPER ALLEN TOWNSHIP, PA | 106-53 | 502b | NO OBLIGATION FOR CONSTRUCTION | 3,400,000
| DELAWARE RIVER BASIN—WABASH CREEK, BOROUGH OF TAMAQUA, PA | 93-251 | 2 | 1993 | 13,194,000
| PHILADELPHIA, PA (FRANKFORD DAM) | 104-303 | 564e | NO OBLIGATION FOR CONSTRUCTION | 900,000
| PHILADELPHIA, PA (PENNYPACK PARK) | 104-303 | 564d | NO OBLIGATION FOR CONSTRUCTION | 15,000,000
| PHILADELPHIA, PA (WATER WORKS RESTORATION) | 104-303 | 564a | NO OBLIGATION FOR CONSTRUCTION | 1,000,000
| PHOENIXVILLE BOROUGH, CHESTER COUNTY, PA | 106-554 | 108d | NO OBLIGATION FOR CONSTRUCTION | 2,400,000
| TOWAMENCIN TOWNSHIP, PA | 106-53 | 502b | 2005 | 1,462,000
PR | GUANAJIBO RIVER, PR | 106-53 | 101 | NO OBLIGATION FOR CONSTRUCTION | 3,495,941
| RIO NIGUA AT SALINAS, PR | 106-53 | 101 | NO OBLIGATION FOR CONSTRUCTION | 12,145,000
RI | CRANSTON, RI | 101-640 | 54 | NO OBLIGATION FOR CONSTRUCTION | 6,000,000
| DREDGING OF SALT PONDS IN THE STATE OF RHODE ISLAND, RI | 106-53 | 578 | NO OBLIGATION FOR CONSTRUCTION | 1,100,000
SC | CHARLESTON, SC | 108-137 | 127 | NO OBLIGATION FOR CONSTRUCTION | 10,000,000
TN | MEMPHIS HARBOR, MEMPHIS, TN | 106-53 | 364 | NO OBLIGATION FOR CONSTRUCTION | 110,044,000
| NONCONNAH CREEK, TN & MS (EXTENSION) | 106-541 | 334 | 2004 | 36,188,000
TX | NAVASOTA RIVER BASIN, TX (MILLICAN LAKE, TX) | 90-483 | 203 | 1983 | 778,421,000
| TRINITY RIVER AND TRIBUTARIES, TX (LIBERTY LOCAL PROTECTION PROJECT) | 108-447 | 116 | 1981 | 19,985,000
| TRINITY RIVER AND TRIBUTARIES, TX (NAVIGATION CHANNEL ABOVE LIBERTY) | 108-447 | 116 | 1981 | 5,412,060,000
| TRINITY RIVER AND TRIBUTARIES, TX (WEST FORK FLOODWAY) | 108-447 | 116 | 1981 | 119,408,000
| BUFFALO BAYOU AND TRIBUTARIES, TX (HALLS BAYOU) | 101-640 | 101(21) | NO OBLIGATION FOR CONSTRUCTION | 112,536,000
| LOWER RIO GRANDE BASIN, TEXAS (SOUTH MAIN CHANNEL), TX | 99-662 | 401(a) | 2005 | 207,183,000
TX & OK | RED RIVER WATERWAY (BANK STABILIZATION FEATURES) | 90-483 | 101 | 2004 | 685,324,228
UT | CACHE COUNTY, UT | 106-53 | 502(b) | NO OBLIGATION FOR CONSTRUCTION | 5,000,000
UT | UPPER JORDAN RIVER, UT | 106-53 | 357 | 2004 | 11,087,268
VA | LEVISA AND TUG FORKS AND UPPER CUMBERLAND RIVER VA, WV, KY (HAYSI LAKE, VA) | 104-303 | 353 | 1989 | 185,915,319
| NORFOLK HARBOR ANCHORAGES, VA | 101-640 | 107(a)(13) | NO OBLIGATION FOR CONSTRUCTION | 63,130,000
| WALLOPS ISLAND, VA | 106-53 | 567 | NO OBLIGATION FOR CONSTRUCTION | 8,000,000
WA | STILLAGUMAISH RIVER BASIN, WA | 106-541 | 101b(27) | NO OBLIGATION FOR CONSTRUCTION | 26,047,966
WV | CABIN CREEK LPP, WV | 99-662 | 601a | NO OBLIGATION FOR CONSTRUCTION | 10,409,900
| ISLAND CREEK BASIN, VICINITY OF LOGAN, WV (NON-STRUCTURAL FEATURES) | 99-662 | 401a | NO OBLIGATION FOR CONSTRUCTION | 107,707,600
| WEST VIRGINIA PORT DEVELOPMENT, WV | 106-53 | 557(3) | NO OBLIGATION FOR CONSTRUCTION | 24,144,000
| WEIRTON PORT, WV | 106-53 | 557(2) | NO OBLIGATION FOR CONSTRUCTION | 15,274,778
|  |  |  | TOTAL | 14,255,612,373

Final Deauthorization Report WRRDA 2014, Section 6001(d)(3)(B)

Appendix A—Projects Removed From the Interim Deauthorization List

State | Project/Element name | Reason project removed from interim deauthorization list
Louisiana | Amite River and Tributaries | Technical Correction: The Amite River and Tributaries project is identified in later authorizations as the Comite River Diversion project, which is under construction.
Connecticut | Hartford Environmental Infrastructure | Technical Correction: Project Previously Deauthorized (Federal Register 74.126).
Connecticut | New Haven Environmental Infrastructure | Technical Correction: Project Previously Deauthorized (Federal Register 74.126).
Maine | Fall River and New Bedford Environmental Infrastructure | Technical Correction: Project Previously Deauthorized (Federal Register 74.126).

[FR Doc. 2016-06695 Filed 3-24-16; 8:45 am]

BILLING CODE 3720-58-P